DEPARTMENT OF JUSTICE

Antitrust Division

Notice Pursuant to the National Cooperative Research and Production Act of 1993—AARST Consortium on National Standards

Notice is hereby given that, on October 28, 2022, pursuant to Section 6(a) of the National Cooperative Research and Production Act of 1993, 15 U.S.C. 4301 et seq. (“the Act”), AARST Consortium on National Standards (“AARST Consortium”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization is: AARST Consortium on National Standards, Hendersonville, NC. The nature and scope of AARST Consortium's standards development activities are: Standards of practice for radon measurement in all buildings; Verification of quality for radon measurement systems and quality assurance for field and laboratory operations; Standards of practice for mitigating radon and soil gas hazards in existing buildings; Standards for building design in new construction to mitigate radon and soil gas hazards; and Standards of practice for both measurement and mitigation of hazards in existing buildings due to radon in water.

Suzanne Morris,
Deputy Director of Civil Enforcement Operations, Antitrust Division.

[FR Doc. 2023-01328 Filed 1-23-23; 8:45 am]

BILLING CODE P